NATIONAL SCIENCE FOUNDATION

Sunshine Act Meeting; National Science Board

The National Science Board's Science and Engineering Indicators Committee, pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Wednesday, January 6, 2016 at 4:30 p.m. EST.

SUBJECT MATTER: (1) Chairman's opening remarks; (2) Approval of minutes of November 18, 2015; (3) Discussion of Higher Education Companion Brief; and (4) Committee Chair's Closing Remarks.

STATUS: Open.

LOCATION: This meeting will be held by teleconference at the National Science Foundation, 4201Wilson Blvd., Arlington, VA 22230. A public listening line will be available. Members of the public must contact the Board Office send an email message to nationalsciencebrd@nsf.gov at least 24 hours prior to the teleconference for the public listening number.

UPDATES AND POINT OF CONTACT: Please refer to the National Science Board Web site www.nsf.gov/nsb for additional information. Meeting information and updates (time, place, subject matter or status of meeting) may be found at http://www.nsf.gov/nsb/notices/. Point of contact for this meeting is: Elise Lipkowitz (elipkowitz@nsf.gov), 4201 Wilson Blvd., Arlington, VA 22230.

Kyscha Slater-Williams,
Program Specialist to the National Science Board.

[FR Doc. 2015-32287 Filed 12-18-15; 4:15 pm]

BILLING CODE 7555-01-P